DEPARTMENT OF COMMERCE

National Oceanic and Atmospheric Administration

[I.D. 083104G]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Trawl Individual Quota Enforcement Group (TIQ Enforcement Group) will hold a working meeting which is open to the public.

DATES: The TIQ Enforcement Group working meeting will begin Tuesday, September 28, 2004 at 8:30 a.m. and may go into the evening if necessary to complete business for the day.

ADDRESSES: The meeting will be held at the Pacific Fishery Management Council, 7700 NE Ambassador Place, Suite 200, West Conference Room, Portland, OR 97220-1384; telephone: 503-820-2280.

FOR FURTHER INFORMATION CONTACT: Mr. Jim Seger, Staff Officer (Economist); telephone: 503-820-2280.

SUPPLEMENTARY INFORMATION: The purpose of the TIQ Enforcement Group meeting is to: (1) review enforcement program alternatives developed at its previous meeting in the light of comments received during the recently completed National Environmental Policy Act scoping period and (2) to work on developing a general assessment of the costs for status quo enforcement and levels of enforcement that might be required for different individual quota enforcement programs.

Although non-emergency issues not contained in the TIQ Enforcement Group meeting agenda may come before the group for discussion, those issues may not be the subject of formal group action during these meetings. TIQ Enforcement Group final action will be restricted to those issues specifically listed in this notice and to any issues arising after publication of this notice requiring emergency action under Section 305(c) of the Magnuson-Stevens Fishery Conservation and Management Act, provided the public has been notified of the group's intent to take final action to address the emergency.

Special Accommodations

The meeting is physically accessible to people with disabilities. Requests for sign language interpretation or other auxiliary aids should be directed to Ms. Carolyn Porter at 503-820-2280 at least 5 days prior to the meeting date.

Dated: September 3, 2004.
Alan D. Risenhoover,
Acting Director, Office of Sustainable Fisheries, National Marine Fisheries Service.

[FR Doc. E4-2130 Filed 9-8-04; 8:45 am]

BILLING CODE 3510-22-S